DEPARTMENT OF THE INTERIOR

U.S. Geological Survey

National Cooperative Geologic Mapping Program (NCGMP) Advisory Committee

AGENCY: U.S. Geological Survey, Interior.

ACTION: Notice of meeting.

SUMMARY: Pursuant to Public Law 106-148, the NCGMP Advisory Committee will meet in Room 324 of Brooks Hall at West Virginia University, 98 Beechurst Ave, Morgantown, WV 26506. The Advisory Committee, comprising scientists from Federal agencies, State agencies, academic institutions, and private companies, shall advise the Director of the U.S. Geological Survey on planning and implementation of the geologic mapping program.

The Committee will hear updates on progress of the NCGMP towards fulfilling the purposes of the National Geological Mapping Act of 1992; the Federal, State, and educational components of the NCGMP; and the National Geological and Geophysical Data Preservation Program. The Committee will also discuss future technologies for geologic mapping.

DATES: May 12-13, 2009, commencing at 8:30 a.m. on May 12 and adjourning by 5 p.m. on May 13.

FOR FURTHER INFORMATION CONTACT: Linda Jacobsen, U.S. Geological Survey, Mail Stop 908, National Center, Reston, Virginia 20192 (703) 648-4335.

SUPPLEMENTARY INFORMATION: Meetings of the National Cooperative Geological Mapping Program Advisory Committee are open to the Public.

Dated: April 9, 2009.
Timothy Miller,
Acting Associate Director for Geology, U.S. Geological Survey.

[FR Doc. E9-8603 Filed 4-14-09; 8:45 am]

BILLING CODE 4311-AM-P